DEPARTMENT OF COMMERCE

National Oceanic and Atmospheric Administration

RIN 0648-XH74

Endangered and Threatened Species; Take of Anadromous Fish

AGENCY: National Marine Fisheries Service (NMFS), National Oceanic and Atmospheric Administration (NOAA), Commerce.

ACTION: Notice of availability and request for comment.

SUMMARY: Notice is hereby given that NMFS has received an application from the Washington Department of Fish and Wildlife (WDFW) for an incidental take permit pursuant to the Endangered Species Act of 1973, as amended (ESA). This document serves to notify the public of the availability for comment of a revised draft environmental assessment (EA) before a final decision on whether to issue a Finding of No Significant Impact and the permit is made by NMFS. The draft EA is revised to reflect a permit extension from five years to ten years. All comments received will become part of the public record and will be available for review pursuant to section 10(c) of the ESA.

DATES: Written comments on the application and draft EA must be received at the appropriate address or fax number (see ADDRESSES) no later than 5 p.m. Pacific time on May 23, 2008.

ADDRESSES: Written comments on the application should be sent to Kristine Petersen, Salmon Recovery Division, 1201 N.E. Lloyd Boulevard, Suite 1100, Portland, OR 97232. Comments may also be submitted by e-mail to: UCRFisheriesEA.nwr@noaa.gov. Include in the subject line of the e-mail comment the following identifier: Comments on UCR recreational fisheries. Comments may also be sent via facsimile (fax) to (503) 872-2737. Requests for copies of the permit application should be directed to the Salmon Recovery Division, 1201 NE Lloyd Boulevard, Suite 1100, Portland, OR 97232. The documents are also available on the Internet at www.nwr.noaa.gov. Comments received will also be available for public inspection, by appointment, during normal business hours by calling (503) 230-5409.

FOR FURTHER INFORMATION CONTACT: Kristine Petersen at (503) 230-5409.

SUPPLEMENTARY INFORMATION: This notice is relevant to the following species and evolutionarily significant units (ESUs) or distinct population segments (DPSs):

Steelhead (Oncorhynchus mykiss): endangered, naturally produced and artificially propagated Upper Columbia River (UCR) and threatened Middle Columbia River.

Chinook salmon (O. tshawytscha): endangered Upper Columbia River spring-run and threatened Snake River fall-run.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to non-Federal entities to take ESA-listed species if such taking is incidental to, and not the purpose of, carrying out an otherwise lawful activity, under section 10(a)(1)(B) of the ESA. NMFS regulations governing permits for threatened and endangered species are promulgated at 50 CFR 222.307.

NEPA requires Federal agencies to conduct an environmental analysis of their proposed actions to determine if the actions may affect the human environment. NMFS expects to take action on an ESA section 10(a)(1)(B) submittal received from the WDFW and is seeking public input to extend the WDFW's permit term from five years to ten years.

On September 12, 2005, the WDFW submitted an application to NMFS for an ESA section 10(a)(1)(B) permit for incidental take of ESA-listed anadromous fish species associated with recreational fishery programs in the upper Columbia River and its tributaries for a five-year period (70 FR 71087). On September 12, 2007, the draft NEPA analysis of the action was made available for public comment (72 FR 52085). All comments were subsequently addressed, and no comments were received regarding the permit term. However, a final EA and final ESA determination were not prepared because, since the draft EA public comment period, NMFS has determined that issuing the proposed permit for ten years, rather than five years, is reasonable. NMFS believes that these fisheries pose a low risk of deviating from the assessed impacts over time. Permit 1554 as proposed, and as previously described, would maintain or strengthen monitoring and compliance enforcement activities and, therefore, the level of confidence in the effects analysis and the impacts. Additionally, permit 1554 would include an annual reporting requirement and identify an annual renewal process. If impacts exceed the authorized take or new information on the impacts of the activities arises, NMFS could re-initiate consultation. The proposed fisheries would target non-listed anadromous salmon and steelhead and resident game fish species. No fisheries that would target listed species are proposed. Implementation of these fisheries would allow fishing for recreational purposes and would provide economic opportunities for local communities through the sale of licenses and equipment, and the conduct of other business and services related to recreational fisheries.

This notice is provided pursuant to section 10(c) of the ESA. NMFS requests comments on the ten-year permit period and will evaluate comments submitted to determine whether the application meets the requirements of section 10(a)(1)(A) of the ESA. If it is determined that the requirements are met, a final EA and Finding of No Significant Impact will be prepared, and a permit will be issued to the WDFW for the purpose of carrying out the fisheries management activities. NMFS will publish a record of its final action in the Federal Register.

Dated: May 6, 2008.
Marta Nammack,
Acting Chief, Endangered Species Division, Office of Protected Resources, National Marine Fisheries Service.

[FR Doc. E8-10390 Filed 5-8-08; 8:45 am]

BILLING CODE 3510-22-S